SMALL BUSINESS ADMINISTRATION

Revocation of License of Small Business Investment Company

Pursuant to the authority granted to the United States Small Business Administration by the Final Order of the United States District Court for the District of Connecticut entered February 29, 2000, the United States Small Business Administration hereby revokes the license of Capital Impact Corporation, a Connecticut corporation, to function as a small business investment company under the Small Business Investment Company License No. 01/01-0335 issued to Capital Impact Corporation on March 1, 1985 and said license is hereby declared null and void as of June 1, 2000.

United States Small Business Administration.
Dated: August 3, 2000.
Don A. Christensen,
Associate Administrator for Investment.

[FR Doc. 00-20641 Filed 8-14-00; 8:45 am]

BILLING CODE 8025-01-M